DEPARTMENT OF HEALTH AND HUMAN SERVICES

Health Resources and Services Administration

Notice of Supplemental Funding, Poison Control Centers Program

AGENCY: Health Resources and Services Administration (HRSA), Department of Health and Human Services.

ACTION: Notice of supplemental award.

SUMMARY: HRSA is awarding supplemental funds in fiscal year 2024 to provide coverage for calls to the toll-free Poison Help line that originate from Puerto Rico. The current program period of performance ends on August 31, 2024.

FOR FURTHER INFORMATION CONTACT: Maureen Perkins, MPH; Team Lead; Poison Control Program; Division of Child, Adolescent and Family Health; Maternal and Child Health Bureau; HRSA, at mperkins@hrsa.gov and 301-443-9163.

SUPPLEMENTARY INFORMATION:

Intended Recipient(s) of the Award: New York City Health & Hospitals Corporation.

Amount of Non-Competitive Award(s): One award of $265,188.

Project Period: September 1, 2024, to August 31, 2025.

Assistance Listing (CFDA) Number: 93.253.

Award Instrument: Supplement for Poison Control Services.

Authority: 42 U.S.C. 300d-73 (title XII, 1273 of the Public Health Service Act).

Table 1—Recipient and Award Amount
Grant No. | Award recipient name | State | Award amount
H4BHS15477 | New York City Health & Hospitals Corporation | NY | $265,188

Justification: This non-competitive supplement will award $265,188 to New York City Health & Hospitals Corporation to fund the New York City Poison Control Center (NYCPCC) to provide coverage of calls to the toll-free Poison Help line originating from Puerto Rico from September 1, 2024, through August 31, 2025. The Poison Control Program ensures that individuals can call a national toll-free Poison Help line (1-800-222-1222) to connect to a local poison control center in a poisoning emergency. As required by statute, calls to the Poison Help line must be directed to poison control centers that are accredited. In the most recent Notice of Funding Opportunity, HRSA-24-045, no application was received to respond to calls from Puerto Rico. To ensure uninterrupted poison control center coverage for Puerto Rico, HRSA identified NYCPCC as an accredited center that is capable of responding to Puerto Rico's approximately 5,000 calls annually. NYCPCC historically has been able to provide temporary coverage for Puerto Rico's calls on an ad hoc basis and has the qualifications, experience, and personnel to do so on a longer-term basis. Funds will be used for project activities within the scope of the current award (as announced in HRSA-24-045); supplemental funds will support NYCPCC to provide coverage to calls to the Poison Help line originating from Puerto Rico for a period of 1 year. Future funds for coverage for Puerto Rico may be made available in a Notice of Funding Opportunity for a project period of September 1, 2025, to August 31, 2028, subject to the availability of funding for the activity.

Carole Johnson,
Administrator.

[FR Doc. 2024-21402 Filed 9-18-24; 8:45 am]

BILLING CODE 4165-15-P